ENVIRONMENTAL PROTECTION AGENCY

[ER-FRL-6622-8]

Environmental Impact Statements; Notice of Availability

Responsible Agency: Office of Federal Activities, General Information (202) 564-7167 or www.epa.gov/oeca/ofa.

Weekly receipt of Environmental Impact Statements

Filed October 15, 2001 Through October 19, 2001

Pursuant to 40 CFR 1506.9:

EIS No. 010385, Final Supplement, AFS, CO, Sheep Flats Diversity Unit, Timber Sales and Related Road Construction, Grand Mesa, Uncompahgre and Gunnison National Forests, Collbran Ranger District, Mesa County, CO, Wait Period Ends: November 19, 2001, Contact: Carol McKenzie (970) 874-6618.

EIS No. 010386, Draft EIS, AFS, MT, Game Range Project, To Improve Ecosystem Health and Productivity, Reduce Fuel Loading and Big Game Winter Range Condition, Lolo National Forest, Plain/Thompson Falls Ranger District, From Thompson River To Squaw Creek, Thompson Falls, MT, Comment Period Ends : December 3, 2001, Contact: Frank Yurczyk (406) 826-4313.

EIS No. 010387, Draft EIS, FHW, DC, NC, VA, Southeast High Speed Rail Corridor, From Washington, D.C. to Charlotte, NC, To Provide a Competitive Transportation Choice to Traveler, Funding and Federal Permits, DC and NC, Comment Period Ends: December 3, 2001, Contact: Nicholas L. Graf (919) 856-4346.

EIS No. 010388, Final EIS, AFS, MT, Burned Area Recovery, Proposal to Reduce Fuels, Improve Watershed Conditions and Reforest Burned Lands, Sula, Darby, West Fork and Stevensville Ranger Districts, Bitterroot National Forest, Ravalli County, MT, Comment Period Ends: November 19, 2001, Contact: Spike Thompson (406) 363-7100. This document is available on the Internet at: http://www.fs.fed.us/rl/bitterroot.

EIS No. 010389, Draft Supplemental, FHW, WV, VA, Appalachians Corridor H, To Construct a 16-mile Highway Between Kerens to Parsons, Battlefield Avoidance, Randolph and Tucker Counties, WV, Comment Period Ends Due: December 3, 2001, Contact: Thomas J. Smith (304) 347-5928.

Amended Notices

EIS No. 010326, Draft EIS, APH, Programmatic EIS—Rangeland Grasshopper and Mormon Cricket Suppression Program, Authorization, Funding and Implementation in 17 Western States, AZ, CA, CO. ID, KS, MT, NB, NV, NM, ND, OK, OR, SD, TX, UT, WA and WY , Due: November 14, 2001, Contact: Charles L. Brown (301) 734-8247. This document is available on Internet at: http://www.aphis.usda.gov/ppd/es/ppqdocs.html. Revision of FR Notice Published on 8/31/2001: CEQ Comment Period Ending 10/15/2001 has been extended to 11/14/2001.

Dated: October 16, 2001.
Joseph C. Montgomery,
Director, NEPA Compliance Division, Office of Federal Activities.

[FR Doc. 01-26422 Filed 10-18-01; 8:45 am]

BILLING CODE 6560-50-U